OFFICE OF PERSONNEL MANAGEMENT

[OMB Control No. 3206-0262]

Submission for Review: Report of Withholdings and Contributions for Health Benefits, Life Insurance and Retirement

AGENCY: Office of Personnel Management.

ACTION: 60-Day notice and request for comments.

SUMMARY: The Office of Personnel Management (OPM) offers the general public and other Federal agencies the opportunity to comment on the renewal of a previously approved information collection. Standard Form 2812 (Report of Withholdings and Contributions for Health Benefits, Life Insurance and Retirement), Standard Form 2812A (Report of Withholdings and Contributions for Health Benefits by Enrollment Code), and OPM Form 1523 (Supplemental Semiannual Headcount Report).

DATES: Comments are encouraged and will be accepted until January 31, 2022.

ADDRESS: You may submit comments to the Federal Rulemaking Portal: http://www.regulations.gov. Follow the instructions for submitting comments. All submissions received must include the agency name and docket number or RIN for this document. The general policy for comments and other submissions from members of the public is to make these submissions available for public viewing at http://www.regulations.gov as they are received without change, including any personal identifiers or contact information.

FOR FURTHER INFORMATION CONTACT: A copy of this ICR, with applicable supporting documentation, may be obtained by contacting the U.S. Office of Personnel Management, Chief Financial Office, Financial Services, 1900 E Street NW, Room 5478, Washington, DC 20415, Attention: Yadira Vega, or sent by email to yadira.vega@opm.gov.

SUPPLEMENTARY INFORMATION: As required by the Paperwork Reduction Act of 1995, (Pub. L. 104-13, 44 U.S.C. chapter 35), as amended by the Clinger-Cohen Act (Pub. L. 104-106), OPM is soliciting comments for this collection (OMB No. 3206-0176).

The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used.

3. Enhance the quality, utility, and clarity of the information to be collected; and

4. Minimize the burden of the collection of information on those who are to respond, including through the use of appropriate automated, electronic, mechanical, or other technological collection techniques or other forms of information technology, e.g., permitting electronic submissions of responses.

Standard Form 2812 (Report of Withholdings and Contributions for Health Benefits, Life Insurance and Retirement), Standard Form 2812A (Report of Withholdings and Contributions for Health Benefits by Enrollment Code), and OPM Form 1523 (Supplemental Semiannual Headcount Report) are used to collect information from payroll providers regarding withholdings, in dollar amounts, for health and life insurance and retirement each pay period (SF 2812 and 2812A) and to collect information twice each year regarding the number of employees enrolled in the three benefit programs (OPM Form 1523).

Analysis

Agency: Trust Fund Management of the Office of the Chief Financial Officer, Office of Personnel Management.

Title: (1) Report of Withholdings and Contributions for Health Benefits, Life Insurance and Retirement (Standard Form 2812); (2) Report of Withholdings and Contributions for Health Benefits by Enrollment Code (Standard Form 2812-A); (3) Supplemental Semiannual Headcount Report (OPM Form 1523).

OMB Number: 3206-0262.

Frequency: Semiannually for OPM Form 1523 and once-per-pay-period for Standard Form 2812 and Standard Form 2812-A.

Affected Public: Public Entities with Federal Employees and Retirees.

Number of Respondents: 5,200.

Estimated Time per Respondent: 30 Minutes.

Total Burden Hours: 2700.

Office of Personnel Management.
Alexys Stanley,
Regulatory Affairs Analyst.

[FR Doc. 2021-26063 Filed 11-29-21; 8:45 am]

BILLING CODE 6325-23-P